DEPARTMENT OF LABOR

Employment and Training Administration

[TA-W-81,652; TA-W-81,652A]

AISS/Sterling Infosystems a Subsidiary of Sterling Infosystems, Inc. Independence, OH; AISS/Sterling Infosystems a Subsidiary of Sterling Infosystems, Inc. Fairlawn, OH; Amended Certification Regarding Eligibility To Apply for Worker Adjustment Assistance

In accordance with Section 223 of the Trade Act of 1974, as amended (“Act”), 19 U.S.C. 2273, the Department of Labor issued a Certification of Eligibility to Apply for Worker Adjustment Assistance on June 12, 2012, applicable to workers of AISS/Sterling Infosystems, a subsidiary of Sterling Infosystem, Inc., Independence, Ohio (TA-W-81,652) and AISS/Sterling Infosystems, a subsidiary of Sterling Infosystem, Inc., Fairlawn, Ohio (TA-W-81,652A). The Department's notice of determination was published in the Federal Register on June 28, 2012 (77 FR 38666).

At the request of a State Workforce Official, the Department reviewed the certification for workers of the subject firm. The workers are engaged in activities related to the supply of background screening services.

The state workforce official reports that the worker group was located among two locations. One of those locations was not previously identified in the certification (TA-W-81,652). In order to properly capture the entirety of the worker group, the certification is being amended.

The amended notice applicable to TA-W-81,652 is hereby issued as follows:

“All workers of AISS/Sterling Infosystems, a subsidiary of Sterling Infosystem, Inc., Independence, Ohio (TA-W-81,652) and AISS/Sterling Infosystems, a subsidiary of Sterling Infosystem, Inc., Fairlawn, Ohio (TA-W-81,652A) who became totally or partially separated from employment on or after May 22, 2011, through June 12, 2014, and all workers in the group threatened with total or partial separation from employment on date of certification through two years from the date of certification, are eligible to apply for adjustment assistance under Chapter 2 of Title II of the Trade Act of 1974, as amended.”

Signed in Washington, DC this July 13, 2012.
Michael W. Jaffe,
Certifying Officer, Office of Trade Adjustment Assistance.

[FR Doc. 2012-17996 Filed 7-23-12; 8:45 am]

BILLING CODE 4510-FN-P